DEPARTMENT OF COMMERCE

National Oceanic and Atmospheric Administration

Proposed Information Collection; Comment Request; Spatial Assessment and Analysis of Non-Consumptive Uses in California's National Marine Sanctuaries

AGENCY: National Oceanic and Atmospheric Administration (NOAA).

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before February 6, 2006.

ADDRESSES: Direct all written comments to Diana Hynek, Departmental Paperwork Clearance Officer, Department of Commerce, Room 6625, 14th and Constitution Avenue, NW., Washington, DC 20230 (or via the Internet at dHynek@doc.gov).

FOR FURTHER INFORMATION CONTACT: Requests for additional information or copies of the information collection instrument(s) and instructions should be directed to Dr. Vernon R. Leeworthy, NOS/Special Projects, 1305 East West Highway, SSMC 4, 9th Floor, Silver Spring, Maryland 20910 (or via Internet at Bob.Leeworthy@noaa.gov).

SUPPLEMENTARY INFORMATION:

I. Abstract

The purpose of this data collection is to provide information needed to inform National Marine Sanctuary management and the greater California Marine Life Protection Act process, an assessment of the economic magnitude of private non-consumptive activities within marine sanctuaries and the ways in which marine protection affects these values. Non-consumptive recreation includes any recreation activity that does not involve removing Sanctuary resources (e.g.) scuba diving, snorkeling, whale watching, bird watching, viewing other wildlife, viewing/photographing scenery, surfing, kayaking, and sailing). The outcomes of the proposed research will include the first geographically organized inventory of private non-consumptive users and values, insight into how biological and physical attributes influence user behavior and values, and the economic impacts associated with these users, in terms of local expenditures and social welfare. All stages of the study will involve a formal peer review process.

Three core tasks will be completed for Channel Islands and Monterey Bay National Marine Sanctuaries:

1. Establish baseline data: (i) Total amount and spatial distribution of non-consumptive use; (ii) Socioeconomic and expenditure profiles of non-consumptive users; and (iii) Knowledge, attitudes, and perceptions of sanctuary management strategies and regulations.

2. Analyze the market and non-market economic impact of non-consumptive use.

3. Analyze how non-market use varies with respect to attributes of marine and coastal environments.

II. Method of Collection

Information will be collected via telephone and face-to-face interviews, and aboard a NOAA vessel using computer aided technology.

III. Data

OMB Number: None.

Form Number: None.

Type of Review: Regular submission.

Affected Public: Individuals or households.

Estimated Number of Respondents: 3,400.

Estimated Time Per Response: 52 minutes.

Estimated Total Annual Burden Hours: 2,945.

Estimated Total Annual Cost to Public: $0.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: November 30, 2005.
Gwellnar Banks,
Management Analyst, Office of the Chief Information Officer.

[FR Doc. E5-6854 Filed 12-5-05; 8:45 am]

BILLING CODE 3510-12-P